DEPARTMENT OF JUSTICE

Antitrust Division

Notice Pursuant to the National Cooperative Research and Production Act of 1993—Maritime Sustainment Technology and Innovation Consortium

Notice is hereby given that, on October 6, 2023, pursuant to section 6(a) of the National Cooperative Research and Production Act of 1993, 15 U.S.C. 4301 et seq. (“the Act”), Maritime Sustainment and Technology Innovation Consortium (“MSTIC”) has filed written notifications simultaneously with the Attorney General and the Federal Trade Commission disclosing changes in its membership. The notifications were filed for the purpose of extending the Act's provisions limiting the recovery of antitrust plaintiffs to actual damages under specified circumstances. Specifically, Anderson Contract Engineering, Inc., Melbourne, FL; Bath Iron Works Corp., Bath, ME; Bosch Rexroth Corp., Bethlehem, PA; C3I, Exeter, NH; Core4ce LLC, Reston, VA; Delta Group Electronics, Inc., San Diego, CA; Divergent Technologies, Inc., Torrance, CA; JR3 Consulting LLC, Huntsville, AL; KAIROS, Inc., California, MD; KCG Engineering Group, Inc., Virginia Beach, VA; MacTaggart Scott USA LLC, Virginia Beach, VA; Martinez and Turek, Inc., Rialto, CA; National Instruments Corp., Austin, TX; Nikira Labs, Inc., Mountain View, CA; Optowares, Inc., Woburn, MA; P&J Robinson Corp., Boerne, TX; Real Time Innovations, Inc., Sunnyvale, CA; RSL Fiber Systems LLC, East Hartford, CT; Sciaky, Inc., Chicago, IL; Snowflake, Inc., Bozeman, MT; Systems Planning and Analysis, Inc., Alexandria, VA; and TMGcore, Inc., Plano, TX have been added as parties to this venture.

No other changes have been made in either the membership or planned activity of the group research project. Membership in this group research project remains open, and MSTIC intends to file additional written notifications disclosing all changes in membership.

On October 21, 2020, MSTIC filed its original notification pursuant to section 6(a) of the Act. The Department of Justice published a notice in the Federal Register pursuant to section 6(b) of the Act on November 19, 2020 (85 FR 73750).

The last notification was filed with the Department on July 7, 2023. A notice was published in the Federal Register pursuant to section 6(b) of the Act on September 26, 2023(88 FR 66060).

Suzanne Morris,
Deputy Director Civil Enforcement Operations, Antitrust Division.

[FR Doc. 2023-27601 Filed 12-14-23; 8:45 am]

BILLING CODE 4410-11-P